DEPARTMENT OF COMMERCE

National Institute of Standards and Technology

[Notice 2]

National Fire Codes: Request for Proposals for Revision of Codes and Standards

AGENCY: National Institute of Standards and Technology, Commerce.

ACTION: Notice.

SUMMARY: The National Fire Protection Association (NFPA) proposes to revise some of its fire safety codes and standards and requests proposals from the public to amend existing or begin the process of developing new NFPA fire safety codes and standards. The purpose of this request is to increase public participation in the system used by NFPA to develop its codes and standards. The publication of this notice of request for proposals by the National Institute of Standards and Technology (NIST) on behalf of NFPA is being undertaken as a public service; NIST does not necessarily endorse, approve, or recommend any of the standards referenced in the notice.

DATES: Interested persons may submit proposals on or behalf the dates listed with standards.

ADDRESSES: Casey C. Grant, Secretary, Standards Council, NFPA, 1 Batterymarch Park, Quincy, Massachusetts 02269-9101.

FOR FURTHER INFORMATION CONTACT: Casey C. Grant, Secretary, Standards Council, at above address, (617) 770-3000.

SUPPLEMENTARY INFORMATION:

Background

The National Fire Protection Association (NFPA) develops building, fire, and electrical safety codes and standards. Federal agencies frequently use these codes and standards as the basis for developing Federal regulations concerning fire safety. Often, the Office of the Federal Register approves the incorporation by reference of these standards under 5 U.S.C. 552(a) and 1 CFR Part 51.

Request for Proposals

Interested persons may submit proposals, supported by written data, views, or arguments to Casey C. Grant, Secretary, Standards Council, NFPA, 1 Batterymarch Park, Quincy, Massachusetts 02269-9101. Proposals should be submitted on forms available from the NFPA Codes and Standards Administration Office.

Each person must include his or her name and address, identify the document and give reasons for the proposal. Proposals received before or by 5 pm local time on the closing date indicated would be acted on by the Committee. The MFPA will consider any proposal that it receives on or before the date listed with the codes or standard.

At a latter date, each NFPA Technical Committee will issue a report, which will include a copy of written proposals that have been received, and on account of their disposition of each proposal by the NFPA Committee as the Report on Proposals. Each person who has submitted a written proposal will receive a copy of the report.

Dated: December 18, 2000.
Karen Brown,
Deputy Director.

NFPA No. | Title | Proposal: Closing date
NFPA/IAPMO UMC | Uniform Mechanical Code | 2/1/2001
NFPA/IAPMO UPC | Uniform Plumbing Code | 2/1/2001
NFPA 1-2000 | Fire Prevention Code | 6/8/2001
NFPA 10-1998 | Standard for Portable Fire Extinguishers | 1/5/2001
NFPA 11-1998 | Standard for Low-Expansion Foam | 1/5/2001
NFPA 11A-1999 | Standard for Medium- and High-Expansion Foam Systems | 1/5/2001
NFPA 12A-1997 | Standard on Halon 1301 Fire Extinguishing Systems | 1/5/2001
NFPA 17-1998 | Standard for Dry Chemical Extinguishing Systems | 1/5/2001
NFPA 17A-1998 | Standard for Wet Chemical Extinguishing Systems | 1/5/2001
NFPA 20-1999 | Standard for the Installation of Stationary Pumps for Fire Protection | 12/28/2001
NFPA 22-1998 | Standard for Water Tanks for Private Fire Protection | 7/6/2001
NFPA 30B-1998 | Code for the Manfuacture and Storage of Aerosol Products | 1/5/2001
NFPA 42-1997 | Code for the Storage of Pyroxylin Plastic | 1/5/2001
NFPA 50A-1999 | Standard for Gaseous Hydrogen Systems at Consumer Sites | 6/28/2001
NFPA 50B-1999 | Standard for Liquefied Hydrogen Systems at Consumer Sites | 6/28/2001
NFPA 51B-1999 | Standard for Fire Prevention During Welding, Cutting, and Other Hot Work | 12/28/2001
NFPA 52-1998 | Compressed Natural Gas (CNG) Vehicular Fuel Systems Code | 1/5/2001
NFPA 54-1999 | National Fuel Gas Code | 1/5/2001
NFPA 55-1998 | Standard for the Storage, Use, and Handling of Compressed and Liquefied Gases in Portable Cylinders | 7/6/2001
NFPA 57-1999 | Liquefied Natural Gas (LNG) Vehicular Fuel Systems Code | 1/5/2001
NFPA 61-1999 | Standard for the Prevention of Fires and Dust Explosions in Agricultural and Food Products Facilities | 1/5/2001
NFPA 69-1997 | Standard on Explosion Prevention Systems | 1/5/2001
NFPA 70B-1998 | Recommended Practice for Electrical Equipment Maintenance | 1/5/2001
NFPA 79-1997 | Electrical Standard for Industrial Machinery | 1/5/2001
NFPA 86-1999 | Standard for Ovens and Furnaces | 12/28/2001
NFPA 86C-1999 | Standard for Industrial Furnaces Using a Special Processing Atmosphere | 12/28/2001
NFPA 86D-1999 | Standard for Industrial Furnaces Using Vacuum as an Atmosphere | 12/28/2001
NFPA 88A-1998 | Standard for Parking Structures | 1/5/2001
NFPA 90A-1999 | Standard for the Installation of Air-Conditioning and Ventilating Systems | 1/5/2001
NFPA 90B-1999 | Standard for the Installation of Warm Air Heating and Air-Conditioning Systems | 1/5/2001
NFPA 97-2000 | Standard Glossary of Terms Relating to Chimneys, Vents, and Heat-Producing Appliances | 7/6/2001
NFPA 101-2000 | Code for Safety to Life from Fire in Buildings and Structures | 3/30/2001
NFPA 130-2000 | Standard for Fixed Guideway Transit and Passenger Rail Systems | 7/6/2001
NFPA 140-1999 | Standard on Motion Picture and Television Production Studio Soundstages and Approved Production Facilities | 7/6/2001
NFPA 170-1999 | Standard for Fire Safety Symbols | 1/5/2001
NFPA 211-2000 | Standard for Chimneys, Fireplaces, Vents, and Solid Fuel-Burning Appliances | 7/6/2001
NFPA 225-P* | Standard for Manufactured Home Sites, Communities, and Setups | 1/5/2001
NFPA 230-1999 | Standard for the Fire Protection of Storage | 7/6/2001
NFPA 232-2000 | Standard for the Protection of Records | 1/5/2001
NFPA 252-1999 | Standard Methods of Fire Tests of Door Assemblies | 12/28/2001
NFPA 256-1998 | Standard Methods of Fire Tests of Roof Coverings | 7/6/2001
NFPA 259-1998 | Standard Test Method for Potential Heat of Building Materials | 7/6/2001
NFPA 260-1998 | Standard Methods of Tests and Classification System for Cigarette Ignition Resistance of Components of Upholstered Furniture | 12/28/2001
NFPA 261-1998 | Standard Method of Test for Determining Resistance of Mock-Up Upholstered Furniture Material Assemblies to Ignition by Smoldering Cigarettes | 12/28/2001
NFPA 262-1999 | Standard Method of Test for Flame Travel and Smoke of Wires and Cables for Use in Air-Handling Spaces | 1/5/2001
NFPA 265-1998 | Standard Methods of Fire Tests for Evaluating Room Fire Growth Contribution of Textile Wall Coverings | 1/5/2001
NFPA 272-1999 | Standard Method of Test for Heat and Visible Smoke Release Rates for Upholstered Furniture Components or Composites and Mattresses Using an Oxygen Consumption Calorimeter | 7/6/2001
NFPA 285-1998 | Standard Method of Test for the Evaluation of Flammability Characteristics of Exterior Non-Load-Bearing Wall Assemblies Containing Combustible Components Using the Intermediate-Scale, Multistory Test Apparatus | 12/28/2001
NFPA 299-1997 | Standard for Protection of Life and Property from Wildfire | 1/5/2001
NFPA 302-1998 | Fire Protection Standard for Pleasure and Commercial Motor Craft | 12/28/2001
NFPA 318-2000 | Standard for the Protection of Cleanrooms | 1/5/2001
NFPA 415-1997 | Standard on Airport Terminal Buildings, Fueling Ramp Drainage, and Loading Walkways | 1/5/2001
NFPA 432-1997 | Code for the Storage of Organic Peroxide Formulations | 1/5/2001
NFPA 434-1998 | Code for the Storage of Pesticides | 1/5/2001
NFPA 480-1998 | Standard for the Storage, Handling and Processing of Magnesium Solids and Powders | 1/5/2001
NFPA 481-2000 | Standard for the Production, Processing, Handling, and Storage of Titanium | 1/5/2001
NFPA 485-1999 | Standard for the Storage, Handling, Processing, and Use of Lithium Metal | 1/5/2001
NFPA 490-1998 | Code for the Storage of Ammonium Nitrate | 1/5/2001
NFPA 497-1997 | Recomended Practice for Classification of Flammable Liquids, Gases or Vapors and of Hazardous (Classified) Locations for Electrical Installations in Chemical Process Areas | 7/6/2001
NFPA 499-1997 | Recommended Practice for Classification of Combustible Dusts and of Hazardous (Classified) Locations for Electrical Installations in Chemical Processing Plants | 7/6/2001
NFPA 501-2000 | Standard on Manufactured Housing | 1/5/2001
NFPA 501A-2000 | Standard for Fire Safety Criteria for Manufactured Home Installations, Sites, and Communities | 1/5/2001
NFPA 505-1999 | Fire Safety Standard for Powered Industrial Trucks Including Type Designations, Areas of Use, Conversions, Maintenance, and Operation | 1/5/2001
NFPA 550-1995 | Guide to the Fire Safety Concepts Tree | 2/16/2001
NFPA 610-P* | Recommended Practice for Safety of Montorsports Venues | 7/6/2001
NFPA 651-1998 | Standard for the Machining and Finishing of Aluminum and the Production and Handling of Aluminum Powders
NFPA 705-1997 | Recommended Practice for a Field Flame Test for Textiles and Films | 1/5/2001
NFPA 750-2000 | Standard on Water Mist Fire Protection Systems | 7/6/2001
NFPA 1001-1997 | Standard for Fire Fighter Professional Qualifications | 1/5/2001
NFPA 1021-1997 | Standard for Fire Officer Professional Qualifications | 1/5/2001
NFPA 1122-1997 | Code for Model Rocketry | 1/5/2001
NFPA 1221-1999 | Standard for the Installation, Maintenance, and Use of Emergency Services Communications Systems | 1/5/2001
NFPA 1584-P* | Recommended Practice for a Fire Department Rehabilitation Program | 1/5/2001
NFPA 1901-1999 | Standard for Automotive Fire Apparatus | 12/28/2001
NFPA 1911-1997 | Standard for Service Tests of Fire Pump Systems on Fire Apparatus | 1/5/2001
NFPA 1914-1997 | Standard for Testing Fire Department Aerial Devices | 1/5/2001
NFPA 1962-1998 | Standard for the Care, Use, and Service Testing of Fire Hose Including Coulines and Nozzles | 3/30/2001
NFPA 1964-1998 | Standard for Spray Nozzles (Shutoff and Tip) | 3/30/2001
* Proposed NEW drafts are available from NFPA's Website—www.nfpa.org or may be obtained from NFPA's Codes and Standards Administration, 1 Batterymarch Park, Quincy, MA 02269.

[FR Doc. 00-32674 Filed 12-21-00; 8:45 am]

BILLING CODE 3510-13-M